PEACE CORPS

Information Collection Request; Submission for OMB Review

AGENCY: Peace Corps.

ACTION: 30-Day notice and request for comments.

SUMMARY: The Peace Corps will be submitting the following information collection request to the Office of Management and Budget (OMB) for review and approval. The purpose of this notice is to allow 30 days for public comment in the Federal Register preceding submission to OMB.

DATES: Submit comments on or before December 26, 2019.

ADDRESSES: Comments should be addressed to Virginia Burke, FOIA/Privacy Act Officer. Virginia Burke can be contacted by telephone at 202-692-1887 or email at pcfr@peacecorps.gov. Email comments must be made in text and not in attachments.

FOR FURTHER INFORMATION CONTACT: Virginia Burke, FOIA/Privacy Act Officer. Virginia Burke can be contacted by telephone at 202-692-1887 or email at pcfr@peacecorps.gov.

SUPPLEMENTARY INFORMATION:

Title: Reasonable Accommodation Request Form.

OMB Control Number: 0420-****.

Type of Request: New.

Affected Public: Individuals.

Respondents Obligation to Reply: Voluntary.

Burden to the Public:

Estimated burden (hours) of the collection of information:

a. Number of respondents: 1,000.

b. Frequency of response: 1 time.

c. Completion time: 10 minutes.

d. Annual burden hours: 200 hours.

General Description of Collection: The Peace Corps uses the Reasonable Accommodation Request Form to collect essential information from medical providers and staff to facilitate access of accommodations as required by Section 504 of the Rehabilitation Act. Data collected will be used to validate accommodation needs. These forms are the first documented point of contact between the Peace Corps and its applicants or employees who are in need of accommodations.

Request for Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC, on November 18, 2019.
Virginia Burke,
FOIA/Privacy Act Officer, Management.

[FR Doc. 2019-25445 Filed 11-22-19; 8:45 am]

BILLING CODE 6051-01-P